DEPARTMENT OF HEALTH AND HUMAN SERVICES

Agency for Healthcare Research and Quality

Statement of Organization, Functions, and Delegations of Authority

Part E, Chapter E (Agency for Healthcare Research and Quality), of the Statement of Organization, Functions, and Delegations of Authority for the Department of Health and Human Services (61 FR 15955-58, April 10, 1996, most recently amended at 65 FR 16395 on March 28, 2000) is further amended to reflect organizational changes necessitated by section 902 of the Public Health Service (PHS) Act as amended by the Healthcare Research and Quality Act of 1999, Public Law 106-129. The specific organizational amendment is as follows:

Under Section E-20, Functions, after the statement for the Office of Health Care Information (EAF), insert the following title and statement:

Office of Priority Populations Research (EAG). Coordinates, supports, manages and conducts health services research on priority populations. Specifically, the Office: (1) Advises the Agency leadership on matters pertaining to the health needs and health care of priority populations, including scientific, ethical, legal and policy issues; (2) prepares the agenda for priority populations research through the Agency's strategic planning process, needs assessment, and user input; (3) serves as an expert resource within the Agency on priority populations to assist program development and participates in the development of policies and programs to implement the Agency's priority populations agenda; (4) fosters new knowledge, tool, and talent development related to priority populations by recommending, leading, coordinating and conducting new initiatives; (5) assists in the translation, dissemination, and application of Agency initiatives and programs to improve health care for priority populations; (6) evaluates the degree to which the Agency is meeting its goals for priority populations research; (7) provides national expertise to Agency staff and Agency partners on priority populations issues, establishing and maintaining liaison with other knowledgeable or concerned agencies, governments and organizations; (8) establishes new contacts and cultivates present ones with external groups (a) to spur increased awareness and emphasis on priority populations within the health services research community, (b) to partner with organizations and agencies to expand research on priority populations, thereby securing additional resources for these activities, and (c) to build the research capacity on priority populations; and (9) enhances the visibility of the Agency in priority populations research.

These changes are effective upon date of signature.

Dated: July 12, 2001.
Tommy G. Thompson,
Secretary.

[FR Doc. 01-21144 Filed 8-21-01; 8:45 am]

BILLING CODE 4160-90-M